COMMODITY FUTURES TRADING COMMISSION

Technology Advisory Committee

AGENCY: Commodity Futures Trading Commission (“CFTC”).

ACTION: Notice of meeting of Technology Advisory Committee.

SUMMARY: The Technology Advisory Committee will hold a rescheduled public meeting on March 1, 2011, from 1 p.m. to 5 p.m., at the CFTC's Washington, DC headquarters.

DATES: The meeting will be held on March 1, 2011 from 1 p.m. to 5 p.m. The meeting was previously scheduled for January 27, 2011, but has been rescheduled. Members of the public who wish to submit written statements in connection with the meeting should submit them by February 28, 2011.

ADDRESSES: The meeting will take place in the first floor hearing room at the CFTC's headquarters, Three Lafayette Centre, 1155 21st Street, NW., Washington, DC 20581. Written statements should be submitted to: Commodity Futures Trading Commission, Three Lafayette Centre, 1155 21st Street, NW., Washington, DC 20581, Attention: Office of the Secretary. Please use the title “Technology Advisory Committee” in any written statement you may submit. Any statements submitted in connection with the committee meeting will be made available to the public.

FOR FURTHER INFORMATION CONTACT: Laura Gardy, Commodity Futures Trading Commission, Three Lafayette Centre, 1155 21st Street, NW., Washington, DC 20581, (202) 418-5354.

SUPPLEMENTARY INFORMATION: Matters to be addressed at the meeting are:

Recommendations from the Pre-trade Functionality Subcommittee

Consideration of Technology Challenges for Implementation of Architectures for Trade Processing and Records Management

The meeting will be webcast on the CFTC's Web site, http://www.cftc.gov. Members of the public also can listen to the meeting by telephone. The public access call-in numbers will be announced at a later date.

Authority: 5 U.S.C. app. 2 § 10(a)(2)

By the Commodity Futures Trading Commission.
Dated: February 9, 2011.
David A. Stawick,
Secretary of the Commission.

[FR Doc. 2011-3345 Filed 2-14-11; 8:45 am]

BILLING CODE P